ENVIRONMENTAL PROTECTION AGENCY

[FRL-6600-7]

Notice of Sixth Meeting of the Mississippi River/Gulf of Mexico Watershed Nutrient Task Force

AGENCY: Environmental Protection Agency (EPA).

ACTION: Notice; announcement meeting.

SUMMARY: This notice announces the Sixth Meeting of the Mississippi River/Gulf of Mexico Watershed Nutrient Task Force. The purpose of this Task Force consisting of Federal, State, and Tribal members, is to lead efforts to coordinate and support nutrient management and hypoxia-related activities in the Mississippi River and Gulf of Mexico watersheds. The major matter to be discussed at the meeting is what should be included in a draft Action Plan which will be available for public comment. This plan of action is required by section 604(b) of the Harmful Algal Blooms and Hypoxia Research Control Act ( Public Law 105-383—Coast Guard Authorization Act of 1998). The public will be afforded an opportunity to provide input to the Task Force during open discussion periods. The room accommodates approximately 125 people. Those who plan to make a statement are asked to indicate their intention to Dr. Belefski (Contact Information below).

DATES: The meeting will be held at 1 p.m.-5 p.m., June 15, 2000, and 8 a.m.—12 p.m., June 16, 2000.

ADDRESSES: The meeting will be held at the St. Louis Marriott Pavilion Downtown Hotel, One Broadway, St. Louis, MO; (314) 421-1776 or 1(800) 228-9290.

FOR FURTHER INFORMATION CONTACT: Dr. Mary Belefski, U.S. EPA, Assessment and Watershed Protection Division (AWPD), Mail Code 4503F, 1200 Pennsylvania Avenue, N.W., Washington, D.C. 20460, telephone (202)-260-7061; Internet: belefski.mary@epa.gov. For additional information on hotel accommodations contact Marquietta Davis, Tetra Tech, Inc., 10306 Eaton Place, Suite 340, Fairfax, Virginia 22030, telephone: (703) 385-6000; Internet:davisma@tetratech-ffx.com.

Dated: May 2, 2000.
Robert Wayland,
Director, Office of Wetlands, Oceans, and Watersheds.

[FR Doc. 00-11429 Filed 5-5-00; 8:45 am]

BILLING CODE 6560-50-P